FEDERAL COMMUNICATIONS COMMISSION

47 CFR Part 73

[DA 06-513; MB Docket No. 03-78; RM-10684]

Radio Broadcasting Services; Bend and Prineville, OR

AGENCY: Federal Communications Commission.

ACTION: Final rule.

SUMMARY: This document substitutes Channel 253C1 for Channel 252C3 at Bend, Oregon and modifies the Station KTWS-FM license to specify operation on Channel 253C1. To accommodate this upgrade, this document also substitutes Channel 271C3 for vacant Channel 255C3 at Prineville, Oregon. The reference coordinates for the Channel 227C2 allotment at Bend, Oregon, are 44-04-41 and 121-19-57. The reference coordinates for the Channel 271C3 allotment at Prineville, Oregon, are 44-20-36 and 120-44-06. See 68 FR 17003, April 8, 2003. With this action, the proceeding is terminated.

DATES: Effective April 17, 2006.

FOR FURTHER INFORMATION CONTACT: Robert Hayne, Media Bureau, (202) 418-2177.

Procedural Matters: This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4). The Commission will send a copy of this Report and Order in a report to be sent to the Congress and Government Accountability Office pursuant to the Congressional Review Act, see 5 U.S.C. 801(a)(1)(A).

SUPPLEMENTARY INFORMATION: This is a synopsis of the Report and Order in MB Docket No. 03-78 adopted March 1, 2006, and released March 3, 2006. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801 (a)(1)(A).

The Report and Order in MM Docket No. 00-87, substituted Channel 253C3 for Channel 252C3 at Bend in order to accommodate the “drop-in” allotment of Channel 251C1 to Madras, Oregon. See Brightwood, Madras, Prineville and Bend, Oregon, 16 FCC Rcd 18,893 (MMB 2001), recon, 20 FCC Rcd 14391 (MB 2005).

List of Subjects in 47 CFR Part 73

Radio, Radio Broadcasting.

Part 73 of the Code of Federal Regulations is amended as follows:

PART 73—RADIO BROADCAST SERVICES

1. The authority citation for part 73 continues to read as follows:

Authority: Sections 303, 48 Stat., as amended, 1082; 47 U.S.C. 154, as amended.

§ 73.202 [Amended]

2. Section 73.202(b), the Table of FM Allotments, under Oregon, is amended by removing Channel 253C3 and adding Channel 253C1 at Bend.

3. Section 73.202(b), the Table of FM Allotments, under Oregon, is amended by removing Channel 255C3 and adding Channel 271C3 at Prineville.

Federal Communications Commission.
John A. Karousos,
Assistant Chief, Audio Division, Media Bureau.

[FR Doc. 06-2606 Filed 3-21-06; 8:45 am]

BILLING CODE 6712-01-P